DEPARTMENT OF HOMELAND SECURITY

Federal Emergency Management Agency

[Docket ID FEMA-2021-0002; Internal Agency Docket No. FEMA-B-2182]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama: Mobile | Unincorporated areas of Mobile County (21-04-4141P). | The Honorable Merceria L. Ludgood, President, Mobile County Commission, 205 Government Street, 10th Floor, South Tower, Mobile, AL 36644. | Mobile County Government Plaza, 205 Government Street, 6th Floor, South Tower, Mobile, AL 36644. | https://msc.fema.gov/portal/advanceSearch. | Feb. 22, 2022 | 015008
Arkansas: Benton | City of Lowell (21-06-1057P). | The Honorable Chris Moore, Mayor, City of Lowell, 216 North Lincoln Street, Lowell, AR 72745. | City Hall, 216 North Lincoln Street, Lowell, AR 72745. | https://msc.fema.gov/portal/advanceSearch. | Feb. 14, 2022 | 050342
Colorado:
Boulder | City of Boulder (21-08-0996X). | The Honorable Sam Weaver, Mayor, City of Boulder, 1777 Broadway Street, Boulder, CO 80302. | Municipal Building Plaza, 1777 Broadway Street, Boulder, CO 80302. | https://msc.fema.gov/portal/advanceSearch. | Feb. 18, 2022 | 080024
Denver | City and County of Denver (21-08-0108P). | The Honorable Michael B. Hancock, Mayor, City and County of Denver, 1437 North Bannock Street, Room 350, Denver, CO 80202. | Department of Public Works, 201 West Colfax Avenue, Denver, CO 80202. | https://msc.fema.gov/portal/advanceSearch. | Mar. 4, 2022 | 080046
Larimer | City of Fort Collins (21-08-0277P). | The Honorable Jeni Arndt, Mayor, City of Fort Collins, P.O. Box 580, Fort Collins, CO 80522. | Stormwater Utilities Department, 700 Wood Street, Fort Collins, CO 80521. | https://msc.fema.gov/portal/advanceSearch. | Feb. 15, 2022 | 080102
Larimer | Unincorporated areas of Larimer County (21-08-0277P). | The Honorable John Kefalas, Chairman, Larimer County Board of Commissioners, 200 West Oak Street, Suite 2200, Fort Collins, CO 80521. | Larimer County Engineering Department, 200 West Oak Street, Suite 3000, Fort Collins, CO 80521. | https://msc.fema.gov/portal/advanceSearch. | Feb. 15, 2022 | 080101
Florida:
Collier | City of Marco Island (21-04-4961P). | Mr. Mike McNees, Manager, City of Marco Island, 50 Bald Eagle Drive, Marco Island, FL 34145. | Building Services Department, 50 Bald Eagle Drive, Marco Island, FL 34145. | https://msc.fema.gov/portal/advanceSearch. | Mar. 1, 2022 | 120426
Monroe | Village of Islamorada (21-04-4874P). | The Honorable Buddy Pinder, Mayor, Village of Islamorada, 86800 Overseas Highway, Islamorada, FL 33036. | Building Department, 86800 Overseas Highway, Islamorada, FL 33036. | https://msc.fema.gov/portal/advanceSearch. | Feb. 22, 2022 | 120424
Georgia: Barrow | Unincorporated areas of Barrow County (21-04-4537P). | The Honorable Pat Graham, Chair, Barrow County Board of Commissioners, 30 North Broad Street, Winder, GA 30680. | Barrow County Planning and Community Development Department, 30 North Broad Street, Winder, GA 30680. | https://msc.fema.gov/portal/advanceSearch. | Feb. 17, 2022 | 130497
Kentucky: Hardin | City of Elizabethtown (21-04-1010P). | The Honorable Jeffrey H. Gregory, Mayor, City of Elizabethtown, 200 West Dixie Avenue, Elizabethtown, KY 42701. | Stormwater Department, 200 West Dixie Avenue, Elizabethtown, KY 42701. | https://msc.fema.gov/portal/advanceSearch. | Feb. 18, 2022 | 210095
Pennsylvania:
Allegheny | Township of Harmar (21-03-0173P). | The Honorable Robert J. Exler, Chairman, Township of Harmar Board of Supervisors, 701 Freeport Road, Cheswick, PA15024. | Zoning Department, 701 Freeport Road, Cheswick, PA15024. | https://msc.fema.gov/portal/advanceSearch. | Feb. 7, 2022 | 421068
Allegheny | Township of Indiana (21-03-0173P). | Mr. Daniel L. Anderson, Township of Indiana Manager, 3710 Saxonburg Boulevard, Pittsburgh, PA 15238. | Code Enforcement Department, 3710 Saxonburg Boulevard, Pittsburgh, PA 15238. | https://msc.fema.gov/portal/advanceSearch. | Feb. 7, 2022 | 421070
South Carolina:
Charleston | Town of McClellanville (21-04-3970P). | The Honorable Rutledge B. Leland, III, Mayor, Town of McClellanville, 405 Pinckney Street, McClellanville, SC 29458. | Zoning Department, 405 Pinckney Street, McClellanville, SC 29458. | https://msc.fema.gov/portal/advanceSearch. | Feb. 17, 2022 | 450039
Charleston | Unincorporated areas of Charleston County (21-04-3970P). | The Honorable Teddie E. Pryor, Sr., Chairman, Charleston County Council, 4045 Bridge View Drive, North Charleston, SC 29405. | Charleston County Building Department, 4045 Bridge View Drive, North Charleston, SC 29405. | https://msc.fema.gov/portal/advanceSearch. | Feb. 17, 2022 | 455413
South Dakota: Pennington | Unincorporated areas of Pennington County (21-08-0193P). | The Honorable Gary Drewes, Chairman, Pennington County Board of Commissioners, 130 Kansas City Street, Suite 100, Rapid City, SD 57701. | Pennington County Office Building, 130 Kansas City Street, Rapid City, SD 57701. | https://msc.fema.gov/portal/advanceSearch. | Jan. 18, 2022 | 460064
Texas:
Brazos | City of Bryan (21-06-1877P). | The Honorable Andrew Nelson, Mayor, City of Bryan, P.O. Box 1000, Bryan, TX 77805. | City Hall, 300 South Texas Avenue, Bryan, TX 77803. | https://msc.fema.gov/portal/advanceSearch. | Feb. 22, 2022 | 480082
Collin | City of McKinney (21-06-1540P). | The Honorable George Fuller, Mayor, City of McKinney, P.O. Box 517, McKinney, TX 75070. | Engineering Department, 221 North Tennessee Street, McKinney, TX 75069. | https://msc.fema.gov/portal/advanceSearch. | Mar. 7, 2022 | 480135
Collin | Town of Prosper (21-06-1205P). | The Honorable Ray Smith, Mayor, Town of Prosper, 250 West 1st Street, Prosper, TX 75078. | Town Hall, 250 West 1st Street, Prosper, TX 75078. | https://msc.fema.gov/portal/advanceSearch. | Jan. 27, 2022 | 480141
Ellis | City of Pecan Hill (21-06-0676P). | The Honorable Don Schmerse, Mayor, City of Pecan Hill, 1094 South Lawrance Road, Pecan Hill, TX 75154. | City Hall, 1094 South Lawrance Road, Pecan Hill, TX 75154. | https://msc.fema.gov/portal/advanceSearch. | Feb. 25, 2022 | 481673
Ellis | City of Red Oak (21-06-0676P). | Mr. Todd Fuller, Manager, City of Red Oak, 200 Lakeview Parkway, Red Oak, TX 75154. | Development Services Department, 411 West Red Oak Road, Red Oak, TX 75154. | https://msc.fema.gov/portal/advanceSearch. | Feb. 25, 2022 | 481650
Ellis | Unincorporated areas of Ellis County (21-06-0676P). | The Honorable Todd Little, Ellis County Judge, 101 West Main Street, Waxahachie, TX 75165. | Ellis County Engineering Department, 109 South Jackson Street, Waxahachie, TX 75165. | https://msc.fema.gov/portal/advanceSearch. | Feb. 25, 2022 | 480798
Tarrant | City of Mansfield (21-06-2343P). | The Honorable Michael Evans, Mayor, City of Mansfield, 1200 East Broad Street, Mansfield, TX 76063. | Department of Public Works, 1200 East Broad Street, Mansfield, TX 76063. | https://msc.fema.gov/portal/advanceSearch. | Feb. 17, 2022 | 480606
Williamson | Unincorporated areas of Williamson County (21-06-0778P). | The Honorable Bill Gravell, Jr., Williamson County Judge, 710 South Main Street, Suite 101, Georgetown, TX 78626. | Williamson County Engineering Department, 3151 Southeast Inner Loop, Georgetown, TX 78626. | https://msc.fema.gov/portal/advanceSearch. | Feb. 17, 2022 | 481079
Utah:
Salt Lake | City of Riverton (21-08-0137P). | The Honorable Trent Staggs, Mayor, City of Riverton, 12830 South Redwood Road, Riverton, UT 84065. | Public Works Department, 12526 South 4150 West, Riverton, UT 84065. | https://msc.fema.gov/portal/advanceSearch. | Feb. 7, 2022 | 490104
Summit | City of Park City (21-08-0593P). | The Honorable Andy Beerman, Mayor, City of Park City, 445 Marsac Avenue, Park City, UT 84060. | City Hall, 445 Marsac Avenue, Park City, UT 84060. | https://msc.fema.gov/portal/advanceSearch. | Feb. 28, 2022 | 490139
West Virginia:
Cabell | City of Milton (21-03-0959P). | The Honorable Tom Canterbury, Mayor, City of Milton, 1139 Smith Street, Milton, WV 25541. | City Hall, 1595 U.S. Route 60 East, Milton, WV 25541. | https://msc.fema.gov/portal/advanceSearch. | Feb. 14, 2022 | 540019
Cabell | Unincorporated areas of Williamson County (21-03-0959P). | The Honorable Jim Morgan, President, Cabell County Commission, 750 5th Avenue, Suite 300, Huntington, WV 25701. | Cabell County Office of Grants, Planning and Permits, 750 5th Avenue, Suite 314, Huntington, WV 25701. | https://msc.fema.gov/portal/advanceSearch. | Feb. 14, 2022 | 540016

[FR Doc. 2021-25903 Filed 11-26-21; 8:45 am]

BILLING CODE 9110-12-P